DEPARTMENT OF TRANSPORTATION

Federal Aviation Administration

Public Notice for Waiver of Aeronautical Land-Use Assurance; Springfield-Beckley Municipal Airport Springfield, OH

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of one parcel of land totaling approximately 10.30 acres for industrial land use. Current use and present condition is vacant grassland. There are no impacts to the airport by allowing the airport to dispose of this property.

Approval does not constitute a commitment by the FAA to financially assist in the sale of the subject airport property nor a determination that all measures covered by the program are eligible for Airport Improvement Program funding from the FAA. The disposition of proceeds from the sale of the airport property will be in accordance with the FAA's Policy and Procedures Concerning the Use of Airport Revenue, published in the Federal Register on February 16, 1999. This proposal is for approximately 10.3 acres in total.

In accordance with section 47107(h) of title 49, United States Code, this notice is required to be published in the Federal Register 30 days before modifying the land-use assurance that requires the property to be used for an aeronautical purpose. The proposed land will be used for an industrial park complex, which will provide additional jobs in an economically challenged area and enhance the aesthetics of the surrounding community.

The proceeds from the sale of the land will be used for airport improvements and operations expenses at Springfield-Beckley Municipal Airport.

DATES: Comments must be received on or before May 25, 2001.

FOR FURTHER INFORMATION CONTACT: Mr. Lawrence C. King, Federal Aviation Administration, Great Lakes Region, Detroit Airports District Office, DET ADO-670.2, Willow Run Airport, East, 8820 Beck Road, Belleville, Michigan 48111, (734) 487-7293. Documents reflecting this FAA action may be reviewed at this same location or at Springfield-Beckley Municipal Airport, Springfield, Ohio.

SUPPLEMENTARY INFORMATION: Following is a legal description of the property located in Clark County, Ohio and described as follows:

Situate in the State of Ohio, County of Clark, Township of Green, and being part of the North Half of Section 10, Town 4, Range 8, and the South Half of Section 11, Town 4, Range 8, between the Miami Rivers Survey and being further described as follows: Beginning at an iron pin located at the Southwest Corner of Lot 5 of Airpark Ohio Plat Section One, thence South 4°42′28″ West 399.48 feet to a point, thence South 84°12′08″ East 1,045.04 feet to a point, thence North 04°42′28″ East 1,003.52 feet to a point, thence South 14°31′02″ West 611.00 feet to a point, thence North 84°12′08″ West 940.93 feet to the point of beginning of the parcel herein described said parcel containing 10.30 acres of land more or less.

Issued in Belleville, Michigan, March 23, 2001.
James M. Opatrny,
Acting Manager, Detroit Airports District Office, Great Lakes Region.

[FR Doc. 01-10135 Filed 4-24-01; 8:45 am]

BILLING CODE 4910-13-M